DEPARTMENT OF THE INTERIOR

Bureau of Land Management

[MT-926-03-1420-BJ]

Montana: Filing of Plat of Amended Protraction Diagram

AGENCY: Bureau of Land Management, Montana State Office, Interior.

ACTION: Notice of Filing of Plat of Amended Protraction Diagram.

SUMMARY: The Bureau of Land Management (BLM) will file the plat of the amended protraction diagram of the lands described below in the BLM Montana State Office, Billings, Montana, (30) days from the date of publication in the Federal Register.

FOR FURTHER INFORMATION CONTACT: Robert L. Brockie, Cadastral Surveyor, Branch of Cadastral Survey, Bureau of Land Management, 5001 Southgate Drive, PO 36800, Billings, Montana 59107-6800, telephone (406) 896-5125 or (406) 896-5009.

SUPPLEMENTARY INFORMATION: The amended protraction diagram was prepared at the request of the U.S. Forest Service, and was necessary to accommodate Revision of Primary Base Quadrangle Maps for the Geometronics Service Center. The lands for the prepared amended protraction diagram are:

Principal Meridian, Montana

Tps. 11, 12, and 13 S., Rs. 12, 13, and 15 W.

The plat, representing the Amended Protraction Diagram 55 Index of unsurveyed Townships 11, 12, and 13 South, Ranges 12, 13, and 15 West, Principal Meridian, Montana, was accepted October 24, 2002.

T. 11 S., R. 15 W.

The plat, representing Amended Protraction Diagram 55 of unsurveyed Township 11 South, Range 15 West, Principal Meridian, Montana, was accepted October 24, 2002.

T. 12 S., R.15 W.

The plat, representing Amended Protraction Diagram 55 of unsurveyed Township 12 South, Range 15 West, Principal Meridian, Montana, was accepted October 24, 2002.

T. 12 S., R. 13 W.

The plat, representing Amended Protraction Diagram 55 of unsurveyed Township 12 South, Range 13 West, Principal Meridian, Montana, was accepted October 24, 2002.

T. 12 S., R. 12 W.

The plat, representing Amended Protraction Diagram 55 of unsurveyed Township 12 South, Range 12 West, Principal Meridian, Montana, was accepted October 24, 2002.

T. 13 S., R. 12 W.

The plat, representing Amended Protraction Diagram 55 of unsurveyed Township 13 South, Range 12 West, Principal Meridian, Montana, was accepted October 24, 2002.

We will place a copy of the plat of the amended protraction diagram we described in the open files. It will be available to the public as a matter of information.

If BLM receives a protest against this amended protraction diagram, as shown on this plat, prior to the date of the official filing, we will stay the filing pending our consideration of the protest.

We will not officially file this plat of the amended protraction diagram until the day after we have accepted or dismissed all protests and they have become final, including decisions on appeals.

Dated: October 31, 2002.
Thomas M. Deiling,
Chief Cadastral Surveyor, Division of Resources.

[FR Doc. 02-28470 Filed 11-7-02; 8:45 am]

BILLING CODE 4310-DN-P